DEPARTMENT OF ENERGY

Federal Energy Regulatory Commission

[Project No. 14513-003]

Idaho Irrigation District, Sweden Irrigation District; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Original Major License.

b. Project No.: 14513-003.

c. Date filed: September 29, 2020.

d. Applicant: Idaho Irrigation District, New Sweden Irrigation District (Districts).

e. Name of Project: County Line Road Hydroelectric Project.

f. Location: The proposed project would be located on the Snake River in Jefferson and Bonneville Counties, Idaho. The project would not affect federal lands.

g. Filed Pursuant to: Federal Power Act 16 U.S.C. 791 (a)-825(r).

h. Applicant Contact: Nicholas Josten, 2742 Saint Charles Ave., Idaho Falls, Idaho 83404; (208) 528-6152.

i. FERC Contact: Matt Cutlip, (503) 552-2762 or email at matt.cutlip@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at https://ferconline.ferc.gov/eFiling.aspx. Commenters can submit brief comments up to 6,000 characters, without prior registration, using the eComment system at https://ferconline.ferc.gov/Quick Comment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-14513-003.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The proposed project would utilize water diverted from the Snake River at an existing diversion dam located 10 miles upstream of Idaho Falls. Currently the diversion dam diverts irrigation water for agricultural purposes into the existing Idaho Canal on the east side of the river and Great Western Canal on the west side of the river. Under the proposed project, the Districts would enlarge the canals by raising the banks of each by an additional 1 to 3 feet to increase their capacity and then divert up to 1,000 cubic feet per second (cfs) of additional flow into each canal for power generation. On the east side of the Snake River, flows for power generation would be diverted into the Idaho Canal and conveyed about 3.1 miles to a new East Side Powerhouse and then discharged back to the Snake River. On the west side of the Snake River, flows for power generation would be diverted into the Great Western Canal and conveyed about 3.5 miles to a new West Side Powerhouse and then discharged back to the Snake River. The Districts propose to maintain a 1,000-cfs minimum flow in the 3.5-mile-long segment of the Snake River bypassed by the project whenever the project is operating. The total capacity of both powerhouses would be 2.5 megawatts (MW), with a 1.2-MW capacity for the single Kaplan turbine in the East Side Powerhouse and a 1.3-MW capacity for the single Kaplan turbine in the West Side Powerhouse. The average annual generation is expected to be 18.3 gigawatt-hours. The project would also include two new 12.5-kilovolt transmission lines, extending 2,500 feet and 400 feet from the East Side and West Side Powerhouses, respectively, to the interconnection points with the existing electrical distribution system.

m. The Commission provides all interested persons with an opportunity to view and/or print the application via the internet through the Commission's Home Page (http://www.ferc.gov/), using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCOnlineSupport@ferc.gov, or toll-free at (866) 208-3676, or for TTY, (202) 502-8659.

You may also register online at https://ferconline.ferc.gov/eSubscription.aspx to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | September 2021.
Commission issues Draft EA or EIS | April 2022.
Comments on Draft EA or EIS | May 2022.
Modified Terms and Conditions | July 2022.
Commission Issues Final EA or EIS | October 2022.

p. A license applicant must file no later than 60 days following the date of issuance of this notice: (1) A copy of the water quality certification; (2) A copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

q. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Dated: July 14, 2021.
Kimberly D. Bose,
Secretary.

[FR Doc. 2021-15404 Filed 7-19-21; 8:45 am]

BILLING CODE 6717-01-P